DEPARTMENT OF AGRICULTURE

Submission for OMB Review; Comment Request

November 20, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Agricultural Research Service

Title: Grant Application Package

OMB Control Number: 0518-0025

Summary of Collection: The Agricultural Research Service (ARS) awards grant under the general authority of 7 U.S.C. 3318, delegated to the Administrator of ARS at 7 CFR part 2, Sec. 2.65. ARS serves as the primary research organization of the Department of Agriculture and conducts in-house research in over 100 ARS laboratories focused on the critical needs of American agriculture. ARS' research mission involves the development and execution of national strategies needed to mobilize resources, foster multi-disciplinary research, and link research to program and policy objectives established by Congress and the Department. ARS may accept unsolicited research grant proposals demonstrating merit in supporting and/or stimulating a public purpose and deemed to be complementary to the ARS research mission. ARS will collect information using several forms.

Need and Use of the Information: ARS will collect information to review applicant's qualifications; to comply with applicable Departmental regulations governing Federal assistance; and to facilitate merit review of research proposals.

Description of Respondents: Not-for-profit institutions; Business or other for-profit; Individuals or households; Farms; Federal Government, State, Local or Tribal Government.

Number of Respondents: 2000.

Frequency of Responses: Reporting: On occasion.

Total Burden Hours: 800.

National Agricultural Statistics Service

Title: National Childhood Agricultural Injury and Occupational Health Survey of Minority Farm Operators.

OMB Control Number: 0535-0235.

Summary of Collection: Primary function of the National Agricultural Statistics Service (NASS) is to prepare and issue state and national estimates of crop and livestock production under the authority of 7 U.S.C. 2204(a). NASS has an interagency agreement with the National Institute of Occupational Safety Health (NIOSH) to conduct surveys that target some of the same population of minority farm operators. The Minority Childhood Injury and Occupational Health Survey will address (1) minority childhood agricultural injuries and (2) occupational health of minority of female farm operators. This study will provide estimates of childhood nonfatal injury incidence and description of injury occurring to children less than 20 years of age who reside, work, or visit farms operated by minorities.

Need and Use of the Information: The National Institute of Occupational Safety Health will use the data to establish a measure of the number and rate of childhood injuries associated with production agriculture, the specific type of injuries sustained and to, generate reports and disseminate information to all interested parties concerning the findings. The study is critical in filling a gap regarding occupational health problems specific to minority or female farm owner/operators. If the data were not collected, NIOSH would be unable to effectively target funds appropriated by Congress for the prevention childhood agricultural injuries.

Description of Respondents; Farms.

Number of Respondents: 60,500.

Frequency of Responses: Reporting: Other.

Total Burden Hours: 12,612.

Agricultural Marketing Service

Title: Regulation Governing Inspection, Certification, and Standards for Fresh Fruits, Vegetables and Other Products—7 CFR part 51.

OMB Control Number: 0581-0125.

Summary of Collection: The Agricultural Marketing Act of 1946 gives authorization to USDA to inspect, certify and identify the class, quantity, quality and condition of agricultural produce when shipped or received in interstate commerce and to enter into cooperative agreements with cooperating Federal-State inspection Agencies that provide for this inspection work. The Fresh Products Branch of the Agricultural Marketing Service provides a nationwide inspection and grading service for fresh fruits, vegetables, and other products to shippers, importers, processors, sellers, buyers and other financially interested parties on a “user-fee” basis. The use of this service is voluntary and is made available only upon request or when specified by some special program or contact.

Need and Use of the Information: Various forms are used to collect information. Such information includes: the name and location of the person or company requesting the inspection, the type and location of the product to be inspected, the type of inspection being requested and any information that will identify the product. The information collected is needed to carry out the inspection and grading services.

Description of Respondents: Business or other for profit.

Number of Respondents: 51,800.

Frequency of Responses: Reporting: On occasion.

Total Burden Hours: 6,416.

Farm Service Agency

Title: Report of Acreage.

OMB Control Number: 0560-0004.

Summary of Collection: Land and crop information is the basic foundation upon which many of Farm Service Agency (FSA) programs operate. The report of acreage is conducted on an annual basis and is used by FSA's county offices to determine eligibility for benefits that are available to producers on the farm. The actual number of producers who must supply information varies depending on (1) the type of farming operation, and (2) the mix of crops planted (which has a direct relationship to the type of program the producer is eligible to participate in). In order to establish eligibility annually for these programs, a minimal amount of land and crop data about a producer's farming operation is required. The information is subsequently used to ensure compliance with program provisions, to determine actual production histories, and when disaster occurs, to verify crop loss. Producers must provide the information each year because variables such as previous year experience, weather projections, market demand, new farming techniques and personal preferences affect the amount of land being farmed, the mix of crops planted, and the projected harvest. FSA will collect information verbally from the producers during visits to the county offices.

Need and Use of the Information: FSA will collect one or more of the following data elements, as required: crop planted, planting date, crop's intended use (e.g., fresh or processing), type or variety (e.g., sweet cherries or tart cherries), practice (irrigated or non-irrigated), acres, location of the crop (tract and field), and the producer's percent share in the crop along with the names of other producers having an interest in the crop.

Once the information is collected and eligibility established, the information is used throughout the crop year to ensure the producer remains compliant with program provisions. Without a certain level of information provided each crop year by the producer, a significant misuse of public funds could occur.

Description of Respondents: Farms.

Number of Respondents: 650,175.

Frequency of Responses: Reporting: Annually.

Total Burden Hours: 1,462,894.

Food and Nutrition Service

Title: Disaster Food Stamp Program.

OMB Control Number: 0584-0336.

Summary of Collection: Section 5(h) of the Food Stamp Act along with other related legislative authorities provide for the Secretary of Agriculture to establish temporary emergency standards of eligibility for victims of a disaster so that food assistance can be obtained. This assistance becomes effective in areas designated as a “major” disaster in order to address temporary food needs of families affected. The Food and Nutrition Service (FNS) is delegated the responsibility to administer the program and State agencies handle enrollment and general operation. In order to determine whether an individual is eligible for emergency food stamp assistance an application form must be completed. The State agencies must comply with certain reporting requirements to reconcile the distribution of food stamps and account for discrepancies.

Need and Use of the Information: FNS, through the State agencies, will collect information from the public to ensure that individuals who apply for emergency food stamps are eligible. Without information from these individuals, there would be no means for establishing whether assistance is warranted. State reporting requirements are necessary in order to ensure that States are accountable for the food stamp coupons it maintains and to avoid fraud, waste, and abuse in the Food Stamp Program.

Description of Respondents: State, Local, or Tribal Government; Individuals or households.

Number of Respondents: 195,163.

Frequency of Responses: Recordkeeping; Reporting: On occasion; Annually.

Total Burden Hours: 33,335.

Nancy B. Sternberg,
Departmental Clearance Officer.

[FR Doc. 00-30074 Filed 11-24-00; 8:45 am]

BILLING CODE 3410-01-M